DEPARTMENT OF EDUCATION

Notice of Proposed Information Collection Requests

AGENCY: Department of Education.

ACTION: Notice of Proposed Information Collection Requests.

SUMMARY: The Leader, Regulatory Management Group, Office of the Chief Information Officer, invites comments on the proposed information collection requests as required by the Paperwork Reduction Act of 1995.

DATES: An emergency review has been requested in accordance with the Act (44 U.S.C. Chapter 3507 (j)), since public harm is reasonably likely to result if normal clearance procedures are followed. Approval by the Office of Management and Budget (OMB) has been requested by October 31, 2002. A regular clearance process is also beginning. Interested persons are invited to submit comments on or before December 16, 2002.

ADDRESSES: Written comments regarding the emergency review should be addressed to the Office of Information and Regulatory Affairs, Attention: Karen Lee, Desk Officer, Department of Education, Office of Management and Budget; 725 17th Street, NW, Room 10235, New Executive Office Building, Washington, DC 20503 or should be electronically mailed to the internet address Karen_F._Lee@omb.eop.gov.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Leader, Regulatory Management Group, Office of the Chief Information Officer, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: October 9, 2002.
John D. Tressler,
Leader, Regulatory Management Group, Office of the Chief Information Officer.

Office of Elementary and Secondary Education

Type of Review: New.

Title: Reading Excellence Act (REA) Performance Report.

Abstract: This Annual Performance Report will allow the Department of Education to collect information required by the Reading Excellence Act.

Additional Information: Emergency clearance is necessary due to unanticipated events related to the No Child Left Behind Act (NCLB). The No Child Left Behind Act, enacted in January 2002, increased Departmental expectations for State reporting, strengthened accountability provisions and emphasized the implementation of proven strategies, particularly those proven through scientific research, in NCLB programs. Clearance is requested for a new performance report that will provide accurate, timely and useful performance information from individual States. This performance report will also enhance the capability of the REA program office to ascertain technical assistance needs and identify compliance concerns. The third and final round of REA States completed their subgrant competitions in August 2002, resulting in several hundred new schools with Reading Excellence programs. This level of program growth necessitates performance reports for effective monitoring of each State's activities. To align with these unanticipated events, the Department is requesting approval to obtain performance reports from each State with an active REA grant. This will replace, not add to, the performance report information collection through the State-District-School Study. This applies to 23 States reporting in November 2002 and 13 States reporting in November 2003. We seek this information each November so that REA staff can quickly accommodate and align with the events described above, and to enable staff to provide relevant technical assistance during the second half of the school year. To give States adequate time to prepare the report, we are requesting OMB approval of the performance report by October 31, 2002.

Frequency: Annually.

Affected Public:State, Local, or Tribal Gov't, SEAs or LEAs.

Reporting and Recordkeeping Hour Burden:Responses: 18. Burden Hours: 24.

Requests for copies of the proposed information collection request may be accessed from http://edicsweb.ed.gov, by selecting the “Browse Pending Collections” link and by clicking on link number 2171. When you access the information collection, click on “Download Attachments “ to view. Written requests for information should be addressed to Vivian Reese, Department of Education, 400 Maryland Avenue, SW, Room 4050, Regional Office Building 3, Washington, DC 20202-4651 or to the e-mail address vivan.reese@ed.gov. Requests may also be electronically mailed to the internet address OCIO_RIMG@ed.gov or faxed to (202) 708-9346. Please specify the complete title of the information collection when making your request.

Comments regarding burden and/or the collection activity requirements, contact Kathy Axt at her e-mail address Kathy.Axt@ed.gov. Individuals who use a telecommunications device for the deaf (TDD) may call the Federal Information Relay Service (FIRS) at 1-800-877-8339.

[FR Doc. 02-26248 Filed 10-15-02; 8:45 am]

BILLING CODE 4000-1-P